DEPARTMENT OF VETERANS AFFAIRS

38 CFR Part 2

RIN 2900-AM18

Delegations of Authority—National Cemetery Administration

AGENCY: Department of Veterans Affairs.

ACTION: Final rule.

SUMMARY: This final rule amends the Department of Veterans Affairs (VA) regulation, “Secretary's delegations of authority to certain officials.” The amendment updates the regulation governing certain delegations of authority exercised by the Under Secretary for Memorial Affairs. This minor technical amendment provides delegation of authority from the Secretary of Veterans Affairs to the Under Secretary for Memorial Affairs to accept monetary and/or non-monetary gifts and donations, made in any manner, which are made for the purpose of beautifying or benefiting national cemeteries. The authority to accept offers of land will remain with the Secretary of Veterans Affairs.

DATES: Effective Date: March 16, 2007.

FOR FURTHER INFORMATION CONTACT: Patrick Hallinan, Deputy Director, Office of Field Programs (41A), National Cemetery Administration, Department of Veterans Affairs, 810 Vermont Avenue, NW., Washington, DC 20420; telephone: (202) 273-5229 (this is not a toll-free number).

SUPPLEMENTARY INFORMATION: The provisions of 38 U.S.C. 2407 authorize the Secretary to “accept gifts, devises, or bequests from legitimate societies and organizations or reputable individuals, made in any manner, which are made for the purpose of beautifying national cemeteries, or are determined to be beneficial to such cemetery.” Currently, under 38 CFR 2.6(f)(3), the Secretary has delegated authority to the Under Secretary for Memorial Affairs “[t]o accept donations of a minor nature, such as, individual trees for planting in burial areas and privately purchased grave markers.” (Emphasis added) The current regulatory language no longer reflects the needs of the agency since the National Cemetery Administration frequently receives offers for donations that may be perceived as more than “minor in nature.” Such offers have included heavy equipment, rose gardens, cash, and electric vehicles. Providing authority to the National Cemetery Administration to accept donations, regardless of monetary value, would be commensurate with the authority that has been provided to the Veterans Health Administration and the Veterans Benefits Administration. The Under Secretary for Memorial Affairs will notify the Secretary when making decisions to accept or decline gifts and donations of offers that are unique, unusual or substantial in nature, or that may be of public interest because of the subject of the offer or identity of the donor. The authority to accept land will remain with the Secretary. The Under Secretary for Memorial Affairs will continue to refer all offers of land to the Secretary, with supporting information and a recommendation for action.

This rule revises paragraph (f)(3) to 38 CFR 2.6 by removing the reference “[t]o accept donations of a minor nature, such as, individual trees for planting in burial areas and privately purchased grave markers” and adding “[t]o accept all donations, except offers of land, made in any manner, for the beautification or benefit of national cemeteries.”

Administrative Procedure Act

This final rule states rules of agency procedure or practice and is therefore exempt from the notice and public comment procedures of 5 U.S.C. 553(b). Further, this final rule is not a substantive rule and, consequently, the delayed effective date provisions of 5 U.S.C. 553(d) are not applicable.

Unfunded Mandates

The Unfunded Mandates Reform Act of 1995 requires, at 2 U.S.C. 1532, that agencies prepare an assessment of anticipated costs and benefits before issuing any rule that may result in an expenditure by State, local, or tribal governments, in the aggregate, or by the private sector, of $100 million or more (adjusted annually for inflation) in any given year. This rule would have no such effect on State, local, or tribal governments, or the private sector.

Paperwork Reduction Act

This document contains no provisions constituting a collection of information under the Paperwork Reduction Act (44 U.S.C. 3501-3521).

Executive Order 12866

Executive Order 12866 directs agencies to assess all costs and benefits of available regulatory alternatives and, when regulation is necessary, to select regulatory approaches that maximize net benefits (including potential economic, environmental, public health and safety, and other advantages; distributive impacts; and equity). The Executive Order classifies a “significant regulatory action,” requiring review by the Office of Management and Budget (OMB) unless OMB waives such review, as any regulatory action that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

The economic, interagency, budgetary, legal, and policy implications of this final rule have been examined and it has been determined not to be a significant regulatory action under Executive Order 12866.

Regulatory Flexibility Act

The Secretary of Veterans Affairs hereby certifies that this final rule will not have a significant economic impact on a substantial number of small entities as they are defined in the Regulatory Flexibility Act, 5 U.S.C. 601-612. This final rule would not directly impact any small entities or individuals. Therefore, pursuant to 5 U.S.C. 605(b), this final rule is exempt from the initial and final regulatory flexibility analysis requirements of sections 603-604.

Catalog of Federal Domestic Assistance

The Catalog of Federal Domestic Assistance numbers for the programs affected by this final rule are 64.201 and 64.202.

List of Subjects in 38 CFR Part 2

Authority delegations (Government agencies), Veterans Affairs Department.

Approved: March 2, 2007.
Gordon H. Mansfield,
Deputy Secretary of Veterans Affairs.

For the reasons set forth in the preamble, 38 CFR part 2 is amended as follows:

PART 2—DELEGATIONS OF AUTHORITY

1. The authority citation for part 2 continues to read as follows:

Authority: 5 U.S.C. 302, 552a; 38 U.S.C. 501, 512, 515, 1729, 1729A, 5711; 44 U.S.C. 3702, unless otherwise noted.

2. Section 2.6 is amended by revising paragraph (f)(3) to read as follows.

§ 2.6. Secretary's delegations of authority to certain officials (38 U.S.C. 512).

* * * * *

(f) * * *

(3) To accept donations, except offers of land, made in any manner, for the beautification or benefit of national cemeteries.

* * * * *

[FR Doc. E7-4826 Filed 3-15-07; 8:45 am]

BILLING CODE 8320-01-P